DEPARTMENT OF COMMERCE

Foreign-Trade Zones Board

[B-58-2012]

Foreign-Trade Zone 37—Orange County, New York, Authorization of Production Activity, Takasago International Corporation (Fragrances), Harriman, New York

On July 26, 2012, Takasago International Corporation (Takasago) submitted a notification of proposed production activity to the Foreign-Trade Zones (FTZ) Board for their facility located within FTZ 37—Site 10 in Harriman, New York.

The notification was processed in accordance with the regulations of the FTZ Board (15 CFR part 400), including notice in the Federal Register inviting public comment (77 FR 46377, 8-3-2012). The FTZ Board has determined that no further review of the activity is warranted at this time. The production activity described in the notification is authorized, subject to the FTZ Act and the Board's regulations, including Section 400.14.

Dated: November 23, 2012.
Andrew McGilvray,
Executive Secretary.

[FR Doc. 2012-28911 Filed 11-28-12; 8:45 am]

BILLING CODE P